DEPARTMENT OF LABOR

Employment and Training Administration

[TA-W-42,270]

Dixon Ticonderoga Company, Inc., Sandusky Division, Sandusky, OH; Notice of Termination of Investigation

Pursuant to section 221 of the Trade Act of 1974, as amended, an investigation was initiated on October 21, 2002, in response to a worker petition filed by the company on behalf of workers at Dixon Ticonderoga Company, Inc., Sandusky Division, Sandusky, Ohio.

The subject firm requested that the existing petition be terminated. Consequently, further investigation would serve no purpose, and the investigation has been terminated.

Signed at Washington, DC, this 10th day of December, 2002.
Elliott S. Kushner,
Certifying Officer, Division of Trade Adjustment Assistance.

[FR Doc. 02-32590 Filed 12-24-02; 8:45 am]

BILLING CODE 4510-30-P